DEPARTMENT OF ENERGY

Federal Energy Regulatory Commission

[Project No., 14807-000]

Merchant Hydro Developers LLC; Notice of Preliminary Permit Application Accepted for Filing and Soliciting Comments, Motions To Intervene, and Competing Applications

On December 19, 2016, Merchant Hydro Developers, LLC, filed an application for a preliminary permit, pursuant to section 4(f) of the Federal Power Act (FPA), proposing to study the feasibility of the Rattlin Run Pumped Storage Hydroelectric Project to be located near Shenandoah Borough in Schuylkill County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) As many as two new upper reservoirs with a combined surface area of 280 acres and a combined storage capacity of 5,040 acre-feet at a surface elevation of approximately 1,760 feet above mean sea level (msl) created through construction of new roller-compacted concrete or rock-filled dams and/or dikes; (2) excavating a new lower reservoir with a surface area of 131 acres and a total storage capacity of 5,040 acre-feet at a surface elevation of 1,099 feet msl; (3) a new 900-foot-long, 48-inch-diameter penstock connecting the upper reservoirs; (4) a new 3,387-foot-long, 48-inch-diameter penstock connecting the upper and lower reservoirs; (5) a new 150-foot-long, 50-foot-wide powerhouse containing two turbine-generator units with a total rated capacity of 300 megawatts; (6) a new transmission line connecting the powerhouse to a nearby electric grid interconnection point with options to evaluate multiple grid interconnection locations; and (7) appurtenant facilities. Possible initial fill water and make-up water would come from Catawissa Creek. The proposed project would have an annual generation of 867,187 megawatt-hours.

Applicant Contact: Adam Rousselle, Merchant Hydro Developers, LLC, 5710 Oak Crest Drive, Doylestown, PA 18902; phone: (267) 254-6107.

FERC Contact: Tim Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14807-000.

More information about this project, including a copy of the application, can be viewed or printed on the “eLibrary” link of the Commission's Web site at http://www.ferc.gov/docs-filing/elibrary.asp. Enter the docket number (P-14807) in the docket number field to access the document. For assistance, contact FERC Online Support.

Dated: February 14, 2017.
Kimberly D. Bose,
Secretary.

[FR Doc. 2017-03323 Filed 2-17-17; 8:45 am]

BILLING CODE 6717-01-P